DEPARTMENT OF JUSTICE

Notice of Lodging Proposed Consent Decree

In accordance with Departmental Policy, 28 CFR 50.7, notice is hereby given that a proposed Consent Decree in United States v. The Bear's Club Founding Partners, Ltd., et al., No. 9:15-cv-81466-WPD, was lodged with the United States District Court for the Southern District of Florida on July 7, 2016.

The proposed Consent Decree concerns a complaint filed by the United States, on behalf of the United States Army Corps of Engineers, against The Bear's Club Founding Partners, Ltd., The Bear's Club Development Co., The Bear's Club Builders LLC, Bear's Club Management Corp., Clarendon Properties Group, Inc., Ivan Charles Frederickson, Ira Fenton, and Robert B. Whitley to obtain a civil penalty and other appropriate relief for violating section 404 of the Clean Water Act, 33 U.S.C. 1344, by discharging pollutants without a permit into waters of the United States. The proposed Consent Decree resolves these allegations against the foregoing Defendants by directing them to pay a civil penalty. The Defendants have already completed mitigation sufficient to offset the loss of aquatic resources caused by the alleged violations.

The Department of Justice will accept written comments relating to this proposed Consent Decree for thirty (30) days from the date of publication of this Notice. Please address comments to Carlos J. Raurell, Assistant United States Attorney for the United States Attorney's Office for the Southern District of Florida, and Andrew J. Doyle, Senior Attorney for the United States Department of Justice, Environment and Natural Resources Division, P.O. Box 7611, Washington, DC 20044 and refer to United States v. The Bear's Club Founding Partners, Ltd., et al., DJ #90-5-1-1-20788.

The proposed Consent Decree may be examined at the Clerk's Office, United States District Court for the Southern District of Florida, 400 North Miami Avenue, Miami, FL 33128. In addition, the proposed Consent Decree may be examined electronically at http://www.justice.gov/enrd/Consent_Decrees.html.

Cherie L. Rogers,
Assistant Section Chief, Environmental Defense Section, Environment and Natural Resources Division.

[FR Doc. 2016-16597 Filed 7-13-16; 8:45 am]

BILLING CODE 4410-15-P